DEPARTMENT OF COMMERCE

International Trade Administration

[A-570-986]

Hardwood and Decorative Plywood From the People's Republic of China: Postponement of Preliminary Determination of Antidumping Duty Investigation

AGENCY: Import Administration, International Trade Administration, Department of Commerce.

DATES: Effective Date: February 25, 2013.

FOR FURTHER INFORMATION CONTACT: Katie Marksberry at (202) 482-7906, AD/CVD Operations, Office 9, Import Administration, International Trade Administration, U.S. Department of Commerce, 14th Street and Constitution Avenue NW., Washington, DC 20230.

SUPPLEMENTARY INFORMATION: On October 17, 2012, the Department of Commerce (“Department”) initiated an antidumping duty investigation on hardwood and decorative plywood from the People's Republic of China.¹ The notice of initation stated that, unless postponed, the Department would issue its preliminary determination no later than 140 days after the date of issuance of the initiation, in accordance with section 773(b)(1)(A) of the Tariff Act of 1930, as amended (“the Act”). The preliminary determination is currently due no later than March 8, 2013.²

¹ See Hardwood and Decorative Plywood From the People's Republic of China: Initiation of Antidumping Duty Investigation, 77 FR 65172 (October 25, 2012).

² As explained in the memorandum from the Assistant Secretary for Import Administration, the Department has exercised its discretion to toll deadlines for the duration of the closure of the Federal Government from October 29, through October 30, 2012. Thus, all deadlines in this segment of the proceeding have been extended by two days. The revised deadline for the preliminary determination of this investigation is now March 8, 2012. See Memorandum to the Record from Paul Piquado, Assistant Secretary for Import Administration, regarding “Tolling of Administrative Deadlines As a Result of the Government Closure During Hurrican Sandy,” dated October 31, 2012.

On Feburary 5, 2013, the Coalition for Fair Trade of Hardwood Plywood (“Petitioners”), made a timely request, pursuant to 19 CFR 351.205(e), for postponement of the preliminary determination, in order to allow additional time for the Department to review the respondents' sections C and D questionnaire submissions, as well as other information critical to the proceeding, such as comments on the selection of a surrogate country and submissions of publicly available information to value the factors of production reported by the respondents.³ Because there are no compelling reasons to deny the request, in accordance with section 733(c)(1)(A) of the Act, the Department is postponing the deadline for the preliminary determination by 50 days.

³ See Letter to the Department, from Petitioners; Re: Hardwood and Decorative Plywood from the People's Republic of China, dated February 5, 2013.

An extension of 50 days from the current deadline of March 8, 2013, would result in a new deadline of April 27, 2013. Because April 27, 2013, falls on a Saturday, the due date for the preliminary determination is now April 29, 2013.⁴ The deadline for the final determination will continue to be 75 days after the date of the preliminary determination, unless extended.

⁴ Department practice dictates that where a deadline falls on a weekend or federal holiday, the appropriate deadline is the next business day. See Notice of Clarification: Application of “Next Business Day” Rule for Administrative Determination Deadlines Pursuant to the Tariff Act of 1930, As Amended, 70 FR 24533, 24533 (May 10, 2005).

This notice is issued and published pursuant to section 733(c)(2) of the Act and 19 CFR 351.205(f)(1).

Dated: February 14, 2013.
Paul Piquado,
Assistant Secretary for Import Administration.

[FR Doc. 2013-04154 Filed 2-22-13; 8:45 am]

BILLING CODE 3510-DS-P